DEPARTMENT OF LABOR

Employment and Training Administration

[TA-W-82,797; TA-W-82,797A; TA-W-82,797B]

Simpson Lumber Company LLC, John's Prairie Operations Division, Shelton, Washington; Simpson Lumber Company LLC Sawmill and Mill #5, Including On-Site Leased Workers of Express Employment Services, Shelton, Washington; Interfor Corporation, NW Region—Tacomas; F/K/A Simpson Lumber Company, Inc.; Including On-Site Leased Workers From Almond and Associates and Optistaff; Including Workers Whose Unemployment Insurance (UI) Wages Are Reported Through Simpson Lumber Company, Inc.; Tacoma Washington; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 21, 2013 applicable to workers and former workers of Simpson Lumber Company LLC, John's Prairie Operations Division, Shelton, Washington. Workers of the subject firm are engaged in activities related to the production of softwood dimensional lumber.

The intent of the Department's certification is to include all workers at the subject firm who were adversely affected by increased imports of softwood dimensional lumber.

The Department has determined that the workers of Interfor Corporation, NW Region—Tacoma, f/k/a Simpson Lumber Company, Inc., including on-site leased workers from Almond and Associates and, including workers whose unemployment insurance (UI) wages are reported through Simpson Lumber Company, Inc., Tacoma, Washington operated in conjunction with the subject firm and that the workers of Interfor Corporation, NW Region—Tacoma, f/k/a Simpson Lumber Company, Inc., including on-site leased workers from Almond and Associates and, including workers whose unemployment insurance (UI) wages are reported through Simpson Lumber Company, Inc., Tacoma, Washington are impacted by increased imports of articles like or directly competitive with the softwood dimensional lumber produced at the subject firm.

Based on these findings, the Department is amending this certification to also include workers of Interfor Corporation, NW Region—Tacoma, f/k/a Simpson Lumber Company, Inc., including on-site leased workers from Almond and Associates and, including workers whose unemployment insurance (UI) wages are reported through Simpson Lumber Company, Inc., Tacoma, Washington.

The amended notice applicable to TA-W-82,797 is hereby issued as follows:

All workers of Simpson Lumber Company LLC, John's Prairie Operations Division, Shelton, Washington (TA-W-82,797); Simpson Lumber Company LLC, Sawmill and Mill #5, including on-site leased workers of Express Employment Services, Shelton, Washington (TA-W-82,797A); and Interfor Corporation, NW Region—Tacoma, f/k/a Simpson Lumber Company, Inc., including on-site leased workers from Almond and Associates and, including workers whose unemployment insurance (UI) wages are reported through Simpson Lumber Company, Inc., Tacoma, Washington (TA-W-82,797B), who became totally or partially separated from employment on or after June 7, 2012 through June 21, 2015, and all workers in the three groups threatened with total or partial separation from employment on June 21, 2013 through June 21, 2015 are eligible to apply for adjustment assistance under Section 223 of the Trade Act of 1974, and are also eligible to apply for alternative trade adjustment assistance under Section 246 of the Trade Act of 1974.

Signed in Washington, DC, this 10th day of February, 2016.
Jessica R. Webster,
Certifying Officer, Office of Trade Adjustment Assistance.

[FR Doc. 2016-04001 Filed 2-24-16; 8:45 am]

BILLING CODE P